DEPARTMENT OF TRANSPORTATION

Federal Transit Administration

49 CFR Part 633

[Docket No. FTA-2009-0030]

RIN 2132-AA92

Capital Project Management

AGENCY: Federal Transit Administration (FTA), DOT.

ACTION: Extension of comment period on proposed rule and notice of informational webinar.

SUMMARY: FTA is extending the comment period on its proposed rule for Capital Project Management to December 2, 2011, to allow interested parties time to carefully review the Notice of Proposed Rulemaking (NPRM) issued September 13, 2011. Also, FTA will hold a webinar on November 10, 2011, to enable the public to ask questions and to clarify any misunderstandings regarding the NPRM or the Federal Transit Administrator's Dear Colleague letter of September 30, 2011.

DATES: Comments on the NPRM must be received by December 2, 2011. Late-filed comments will be considered to the extent practicable.

Webinar Date: FTA will hold a webinar on Thursday, November 10, 2011, commencing at 1 p.m., Eastern Daylight Time. Interested parties are invited to join the webinar and conference call as follows:

1. Click on or paste in your browser the following link: http://fta.adobeconnect.com/capitalprojects-nprm.

2. Click “Enter as Guest,” then type your first and last name, then click “Enter Room.”

3. Connect to the Conference Call at 1-(877) 873-8017, Access Code: 2956512. Note that the webinar is only for informational purposes. Commenters must submit their comments to the official docket to have them considered by FTA.

ADDRESSES: You may submit comments to DOT Docket Number FTA-2009-0030 by any of the following methods:

Federal eRulemaking Portal: Go to http://www.regulations.gov. Follow the online instructions for submitting comments.

U.S. Mail: U.S. Department of Transportation, Docket Operations, West Building, Room W12-140, 1200 New Jersey Avenue SE., Washington, DC 20590.

Hand Delivery: U.S. Department of Transportation, Docket Operations, West Building, Room W12-140, 1200 New Jersey Avenue SE., Washington, DC, between 9 a.m. and 5 p.m., Monday through Friday, except Federal holidays.

Fax: (202) 493-2251.

Instructions: You must include the agency name (Federal Transit Administration) and docket number [FTA-2009-0030] or Regulatory Identification Number [RIN-2132-AA92] for this rulemaking at the beginning of your comments. All comments received will be posted, without change and including any personal information provided, to http://www.regulations.gov, where they will be available to internet users. Please see the Privacy Act.

You should submit two copies of your comments if you submit them by mail. If you wish to receive confirmation that FTA received your comments, you must include a self-addressed, stamped postcard. Due to security procedures in effect since October 2001 regarding mail deliveries, mail received through the U.S. Postal Service may be subject to delays. Parties submitting comments may wish to consider using an express mail firm to ensure the prompt filing of any submissions not filed electronically or by hand.

FOR FURTHER INFORMATION CONTACT: For program matters, please contact Aaron C. James, Sr. at (202) 493-0107 or aaron.james@dot.gov or Carlos M. Garay at (202) 366-6471 or carlos.garay@dot.gov. For legal matters, please contact Scott A. Biehl at (202) 366-0826 or scott.biehl@dot.gov or Jayme L. Blakesley at (202) 366-0304 or jayme.blakesley@dot.gov. FTA is headquartered at 1200 New Jersey Avenue SE., East Building, Washington, DC 20590. Office hours are from 8:30 a.m. to 5 p.m. Monday through Friday, except Federal holidays.

SUPPLEMENTARY INFORMATION: On September 13, 2011, FTA published an NPRM in the Federal Register (76 FR 56363-81) proposing to transform the current FTA rule for project management oversight into a discrete set of managerial principles for sponsors of major capital projects; set standards to enable FTA to more clearly identify whether a sponsor has the management capacity and capability necessary to manage a major capital project; spell out the many facets of project management that must be addressed by a sponsor in the project management plan for a major capital project; change the scope and applicability of the rule; tailor the level of FTA oversight to the costs, complexities, and risks of a major capital project; set forth the means and objectives of FTA risk assessments; and articulate the roles and responsibilities of FTA's project management oversight contractors. On September 20, 2011, FTA staff made an informational presentation on the NPRM during the agency's Construction Roundtable, held in Salt Lake City, which was attended by a number of managers and engineers from sponsors of major capital projects from across the United States. On October 5, 2011, FTA staff made another informational presentation on the NPRM during the New Starts Workshop held in conjunction with the Annual Meeting of the American Public Transportation Association (APTA) in New Orleans, which was attended by a number of managers and planners from sponsors of major capital projects across the nation, and a number of consultants to the transit industry.

By letter dated October 14, 2011, APTA has requested an extension of the comment period to allow its members additional time to consider the many proposals set forth in the NPRM and provide thoughtful comments to the rulemaking docket. Moreover, FTA is aware that the NPRM is of considerable interest throughout the transit, public works, and engineering communities, thus, the agency has scheduled a webinar for November 10, 2011, to summarize the NPRM and answer any questions from the public on any of the subjects related to the NPRM. This webinar is not an opportunity to submit comments to FTA on the NPRM, however. Interested parties must submit their comments to the rulemaking docket as described in this notice, above.

Also, on a related matter, on September 30, 2011, the Federal Transit Administrator issued a Dear Colleague letter announcing a more streamlined process for conducting risk assessments on New Starts projects, which are among the types of “major capital projects” that are the subject of the NPRM for Capital Project Management. The Administrator's Dear Colleague letter, and the accompanying letter of the same date from two of the agency's associate administrators which sets forth additional information on risk assessments, are posted on FTA's public Web site and are available at http://www.fta.dot.gov/newsroom/12910_13883.html. FTA staff will be available to answer any questions regarding the Dear Colleague letter on risk assessments during the webinar on the NPRM on November 10, 2011.

FTA agrees with APTA that an extension of the comment period is in the public interest. Accordingly, FTA is extending the comment period on the proposed rule from November 14, 2011, to December 2, 2011. This extension applies to all parts of the NPRM.

Issued on: October 26, 2011.
Peter Rogoff,
Federal Transit Administrator.

[FR Doc. 2011-28300 Filed 10-31-11; 8:45 am]

BILLING CODE 4910-57-P